DEPARTMENT OF DEFENSE

Office of the Secretary

[Docket ID: DoD-2015-OS-0072]

Privacy Act of 1974; System of Records

AGENCY: Office of the Secretary of Defense, DoD.

ACTION: Notice to add a new System of Records.

SUMMARY: The Office of the Secretary of Defense proposes to add a new system of records, DPFPA 06, entitled “Internal Affairs Records System” to document investigations of alleged Pentagon Force Protection Agency employee misconduct, fraud, waste, and abuse. The records may be used in law enforcement, judicial, or adjudicative proceedings including litigation. Records are also used to identify alleged offenders, witnesses or victims, to document facts and evidence, and to respond to congressional inquiries as appropriate. Used as a management tool for statistical analysis, tracking, reporting, evaluation program effectiveness, and conducting research.

DATES: Comments will be accepted on or before November 2, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/.

The proposed system report, as required by 5 U.S.C. 552a(r) of the Privacy Act of 1974, as amended, was submitted on July 22, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 23, 2015.
Aaron Siegel,
Alternate OSD Federal Register Liaison Officer, Department of Defense.

DPFPA 06

System name:

Internal Affairs Records System.

System location:

Pentagon Force Protection Agency (PFPA), 9000 Defense Pentagon, Washington, DC 20301-9000.

Categories of Individuals Covered by the System:

PFPA employees who are either the subject of or associated with an internal affairs investigation by the Office of Professional Responsibility (OPR).

Any witness or victims outside of PFPA who are connected with an OPR investigation.

Categories of Records in the System:

PFPA employees:

Name (including former names and aliases), Social Security Number (SSN), DoD Identification Number (DoD ID Number), driver's license (state, number, and expiration date), gender, race/ethnicity, home address, home/work/cell phone numbers, home/work email addresses, date and place of birth, country of birth, height, weight, hair/eye color, build, facial hair, employment information (name, address, and phone number of employer), education information (degree, certification), security clearance level, disability information (what type), Office of Professional Responsibility case number, Incident Crime Information System case number, and law enforcement data (criminal arrest history, Federal Bureau of Investigation/State ID numbers). Additional data for PFPA employees includes marital status, length of service, supervisor's name and phone number, and records of investigations to include Reports of Investigation, Information Reports and Case Summaries.

Witness or victims:

Name, home address, home/work/cell phone number, and date and place of birth.

Authority for Maintenance of the System:

10 U.S.C. 2674, Operation and control of Pentagon Reservation and defense facilities in National Capital Region; DoD Directive 5105.68, Pentagon Force Protection Agency; Administrative Instruction 30, Force Protection of the Pentagon; and E.O. 9397 (SSN), as amended.

Purpose(s):

To document investigations of alleged Pentagon Force Protection Agency employee misconduct, fraud, waste, and abuse. The records may be used in law enforcement, judicial, or adjudicative proceedings including litigation. Records are also used to identify alleged offenders, witnesses or victims, to document facts and evidence, and to respond to congressional inquiries as appropriate. Used as a management tool for statistical analysis, tracking, reporting, evaluation program effectiveness, and conducting research.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibilities of investigating or prosecuting such violation or charged with enforcing or implementing the statute, rule, regulation, or order issued pursuant thereto.

Disclosure When Requesting Information Routine Use: A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use: A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Disclosure to the Merit Systems Protection Board Routine Use: A record from a system of records maintained by a DoD Component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsIndex/BlanketRoutineUses.aspx.

Policies and Practices for Storing, Retrieving, Accessing, Retaining, and Disposing of Records in the System:

Storage

Paper file folders and electronic storage media.

Retrievability:

Name, SSN, DoD ID number, or driver's license number, and date of birth.

Safeguards:

Records are maintained in controlled areas accessible only to authorized DoD personnel, including systems users, system administrators, and authorized contractors who have a need-to-know in the performance of official duties and who are properly screened and cleared. Physical entry is restricted by the use of locks, guards, identification badges, key cards, and closed circuit TV. Paper records are stored in locked cabinets in secured offices which are further protected by an access control system. Access to personal information is further restricted by the use of Common Access Card and user ID/passwords, intrusion detection system, encryption, firewalls and DoD public key infrastructure certificates. Data in transit and at rest is encrypted. Administrative procedures, including periodic security audits, regular monitoring of users' security practices, and methods to ensure only authorized personnel access Personally Identifiable Information (PII).

Retention and Disposal:

Destroy/Delete 15 years after the close of the investigation.

System Manager(s) and Address:

Chief, Office of Professional Responsibility, Pentagon Force Protection Agency, 9000 Defense Pentagon, Washington, DC 20301-9000.

Notification Procedure:

Individuals seeking to determine whether information about themselves is contained in a closed investigation in this system should address written inquiries to the Chief, Office of Professional Responsibility, Pentagon Force Protection Agency, 9000 Defense Pentagon, Washington, DC 20301-9000.

PFPA employees: Signed, written requests should contain individual's full name, SSN, DoD ID number, driver's license number, and date of birth.

Witness or victims: Signed, written requests should contain the individual's full name, home address, home/work/cell phone number, and date and place of birth.

Note: The existence of an active investigation or the non-existence of a record will be neither confirmed nor denied.

Record Access Procedures:

Individuals seeking access to records about themselves in a closed investigation should address written inquiries to the Office of the Secretary of Defense/Joint Staff, Freedom of Information Act Requester Service Center, 1155 Defense Pentagon, Washington, DC 20301-1155.

PFPA employees: Signed, written requests should include full name, SSN, DoD ID number, driver's license number, date of birth, and the number of this system of records notice.

Witness or victims: Signed, written requests should include full name, home address, home/work/cell phone number, and date and place of birth.

Note: The existence of an active investigation or the non-existence of a record will be neither confirmed nor denied.

Contesting Record Procedures:

An exemption rule has been published, and this Privacy Act system of records is exempt from the amendment and appeal provisions described in 5 U.S.C. 552a(f).

Open investigations are exempt from the Access to Records provisions established in 5 U.S.C. 552a(d).

Record Source Categories:

Individuals involved in or witness to the incident or inquiry, PFPA officers and investigators, state and local law enforcement, and Federal departments and agencies.

Exemptions Claimed for the System:

This system of records is used by the DoD for a law enforcement purpose (j)(2) and (k)(2), and the records contained herein are used for criminal, administrative, and civil enforcement requirements. As such, this system of records is exempt from the following provisions of 5 U.S.C. 552a section (c)(3) and (4), (d), (e)(1) through (e)(3), (e)(4)(G) through (I), (e)(5), (f) and (g) of the Act.

An exemption rule for this system has been promulgated in accordance with requirements of 5 U.S.C. 553(b)(1), (2), and (3), (c), and (e) and published in 32 CFR part 311. For additional information contact the system manager.

[FR Doc. 2015-24632 Filed 9-29-15; 8:45 am]

BILLING CODE 5001-06-P